DEPARTMENT OF ENERGY

Federal Energy Regulatory Commission

[Project No. 13569-000]

Southern Nevada Water Authority; Notice of Intent To File License Application, Filing of Pre-Application Document, and Approving Use of the Traditional Licensing Process

September 28, 2009.

a. Type of Filing: Notice of Intent to File License Application and Request to Use the Traditional Licensing Process.

b. Project No.: 13569-000

c. Dated Filed: August 14, 2009

d. Submitted By: Southern Nevada Water Authority (Southern Nevada)

e. Name of Project: Arrow Canyon Conduit Energy Recovery Hydroturbine

f. Location: The proposed project would be located next to the existing Coyote Springs Project Water Transmission Conduit in Moapa Clark County, Nevada. The project would occupy 0.68 acres of federal land.

g. Filed Pursuant to: 18 CFR 5.3 of the Commission's regulations

h. Potential Applicant Contact: Scott P. Krantz, 100 City Parkway, Suite 700, Las Vegas, NV 89106; (702) 691-5240.

i. FERC Contact: Jim Fargo at (202) 502-6095; or e-mail at james.fargo@ferc.gov.

j. Southern Nevada notified the public of its request on August 26, 2009. In a letter dated September 28, 2009, the Director of the Office of Energy Projects approved Southern Nevada's request to use the Traditional Licensing Process.

k. With this notice, we are initiating informal consultation with: (a) The U.S. Fish and Wildlife Service under section 7 of the Endangered Species Act and the joint agency regulations thereunder at 50 CFR, Part 402; and (b) the Nevada State Historic Preservation Officer, as required by Section 106, National Historical Preservation Act, and the implementing regulations of the Advisory Council on Historic Preservation at 36 CFR 800.2.

l. Southern Nevada filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document (P-13569). For assistance, contact FERC Online Support at FERCONlineSupport@ferc.gov or toll free at 1-866-208-3676, of for TTY, (202) 502-8659. A copy is also available for inspection and reproduction at the address in paragraph h.

Register online at http://www.ferc.gov/docs-filing/esubscription.asp to be notified via e-mail of new filing and issuances related to this or other pending projects. For assistance, contact FERC Online Support.

Kimberly D. Bose,
Secretary.

[FR Doc. E9-23859 Filed 10-2-09; 8:45 am]

BILLING CODE 6717-01-P